DEPARTMENT OF COMMERCE

International Trade Administration

[A-570-849, A-821-808, A-823-808]

Continuation of Antidumping Duty Order on Certain Cut-to-Length Carbon Steel Plate From the People's Republic of China and Continuation of Suspended Antidumping Duty Investigations on Certain Cut-to-Length Carbon Steel Plate From the Russian Federation and Ukraine: Notice of Correction

AGENCY: Enforcement and Compliance, International Trade Administration, Department of Commerce.

DATES: Effective date: February 17, 2016.

FOR FURTHER INFORMATION CONTACT: Howard Smith (PRC), David Cordell (Russia) or Julie Santoboni (Ukraine), Enforcement and Compliance, International Trade Administration, U.S. Department of Commerce, 14th Street and Constitution Avenue NW., Washington, DC 20230; telephone (202) 482-5193, (202) 482-0408 or (202) 482-3063, respectively.

Correction

On December 21, 2015, the Department of Commerce (“Department”) published, in the Federal Register, the continuation notice of the above referenced Order and Suspended Antidumping Duty Investigations.¹ The published Federal Register notice contained a clerical error stating that “{p}ursuant to sections 751(c)(2) and 751(c)(6) of the Act, the Department intends to initiate the next five-year sunset reviews of the antidumping duty order on CTL plate from the PRC and the Agreements on CTL plate from Russia and Ukraine not later than November 2019.” ² The Notice should have read that the Department intends to initiate the above-referenced next five-year sunset reviews not later than November 2020.

¹ See Continuation of Antidumping Duty Order on Certain Cut-to-Length Carbon Steel Plate from the People's Republic of China and Continuation of Suspended Antidumping Duty Investigations on Certain Cut-to-Length Carbon Steel Plate from the Russian Federation and Ukraine, 80 FR 79306 (December 21, 2015) (“Continuation Notice”).

² Id. at 79307.

This notice serves to correct the incorrect initiation date of the next five-year sunset reviews in the Continuation Notice. This correction is published in accordance with section 777(i) of the Act.

Dated: February 10, 2016.
Paul Piquado,
Assistant Secretary for Enforcement and Compliance.

[FR Doc. 2016-03255 Filed 2-16-16; 8:45 am]

BILLING CODE 3510-DS-P